DEPARTMENT OF ENERGY

Federal Energy Regulatory Commission

Notice of Filings

December 30, 2009.

Take notice that the Commission has received the following Natural Gas Pipeline Rate and Refund Report filings:

Docket Numbers: RP09-558-002.

Applicants: Transcontinental Gas Pipe Line Company.

Description: Transcontinental Gas Pipe Line Company, LLC requests that the Commission reject as moot Original Sheet 89 and Original Sheet 90 to FERC Gas Tariff, Fourth Revised Volume 1, to be effective 12/15/09.

Filed Date: 12/22/2009.

Accession Number: 20091228-0028.

Comment Date: 5 p.m. Eastern Time on Monday, January 4, 2010.

Docket Numbers: RP09-687-003.

Applicants: Equitrans, L.P.

Description: Filing Motion of Equitrans, L.P. for Extension of Time to Comply with Order No. 587-T issued on December 22, 2009.

Filed Date: 12/22/2009.

Accession Number: 20091222-5204.

Comment Date: 5 p.m. Eastern Time on Monday, January 4, 2010.

Docket Numbers: RP10-147-002.

Applicants: Natural Gas Pipeline Company of America.

Description: Emergency Motion of Natural Gas Pipeline Company of America LLC for Limited Stay of Requirement to File Cost and Revenue Study.

Filed Date: 12/22/2009.

Accession Number: 20091222-5279.

Comment Date: 5 p.m. Eastern Time on Monday, January 4, 2010.

Docket Numbers: RP09-614-001.

Applicants: Cheniere Creole Trail Pipeline, LP.

Description: Request of Cheniere Creole Trail Pipeline LP for Limited Waiver of Order No. 712 Electronic Capacity Release Requirements.

Filed Date: 12/23/2009.

Accession Number: 20091223-4009.

Comment Date: 5 p.m. Eastern Time on Monday, January 4, 2010.

Docket Numbers: RP10-19-001.

Applicants: Columbia Gas Transmission, LLC.

Description: Columbia Gas Transmission, LLC submits Tenth Revised Sheet 28 et al to its FERC Gas Tariff, Third Volume 1, to be effective 11/1/09.

Filed Date: 12/23/2009.

Accession Number: 20091224-0074.

Comment Date: 5 p.m. Eastern Time on Monday, January 4, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-459 Filed 1-12-10; 8:45 am]

BILLING CODE 6717-01-P